DEPARTMENT OF DEFENSE

Department of the Army

Notice of Availability of a Record of Decision (ROD) for Base Realignment and Closure (BRAC) Actions at Fort Belvoir, VA; Correction

AGENCY: Department of the Army, DoD.

ACTION: Notice; correction.

SUMMARY: The Department of the Army published a Notice of Availability in the Federal Register of August 10, 2007, concerning the Record of Decision for Base Realignment and Closure (BRAC) actions at Fort Belvoir, Virginia. The Notice of Availability contained incorrect information.

FOR FURTHER INFORMATION CONTACT: Mr. Don Carr, Fort Belvoir Public Affairs Office, at (703) 805-2583 during normal business hours Monday through Friday.

Correction

In the Federal Register of August 10, 2007, in FR Doc. 07-3911, on page 45021, the second column, line 5, correct this line to read: “places a net of 4,284 personnel on Fort Belvoir's Main Post and defers a decision on 6,200 personnel.”

Dated: August 22, 2007.
Addison D. Davis, IV,
Deputy Assistant Secretary of the Army (Environment, Safety and Occupational Health).

[FR Doc. 07-4192 Filed 8-24-07; 8:45 am]

BILLING CODE 3710-08-M